LEGAL SERVICES CORPORATION

Sunshine Act Meetings

TIME AND DATE: The Operations and Regulations, Governance and Performance Review, and Institutional Advancement Committees, and the Communications Subcommittee of the Legal Services Corporation Board of Directors will meet virtually on January 21 and January 23, 2025. On January 21, the Operations and Regulations Committee meeting will begin at 2:00 p.m. ET and will continue until the conclusion of the Committee's agenda. The Governance and Performance Review Committee meeting will begin at 3:00 p.m. ET and will continue until the conclusion of the Committee's agenda. On January 23, the Institutional Advancement Committee meeting will begin at 3:00 p.m. ET and will continue until the conclusion of the Committee's agenda.

PLACE: Public Notice of Virtual Meeting

LSC will conduct the January 21 and January 23, 2025, meetings via Zoom.

Public Observation: Unless otherwise noted herein, all committee and subcommittee meetings will be open to public observation via Zoom. Members of the public who wish to participate remotely in the public proceedings may do so by following the directions provided below.

Directions for Open Sessions

Tuesday, January 21, 2025

• To join the Zoom meeting by computer, please use this link: https://lsc-gov.zoom.us/j/81310387219?pwd=QThds1Z7zK7xmkYe0QUZACzliiSHzJ.1&from=addon.

Meeting ID: 813 1038 7219.

Passcode: 12125.

• To join the Zoom meeting with one tap from your mobile phone, please dial:

+16699006833,,81310387219# US (San Jose)

+14086380968,,81310387219# US (San Jose)

• To join the Zoom meeting by telephone, please dial one of the following phone numbers:

• +1 669 900 6833 US (San Jose)

• +1 408 638 0968 US (San Jose)

• +1 669 444 9171 US

• +1 253 215 8782 US (Tacoma)

• +1 346 248 7799 US (Houston)

• +1 719 359 4580 US

• +1 253 205 0468 US

• +1 386 347 5053 US

• +1 507 473 4847 US

• +1 564 217 2000 US

• +1 646 876 9923 US (New York)

• +1 646 931 3860 US

• +1 689 278 1000 US

• +1 301 715 8592 US (Washington DC)

• +1 305 224 1968 US

• +1 309 205 3325 US

• +1 312 626 6799 US (Chicago)

• +1 360 209 5623 US

Meeting ID: 813 1038 7219.

Thursday, January 23, 2025

• To join the Zoom meeting by computer, please use this link: https://lsc-gov.zoom.us/j/85376875347?pwd=9RWUAXgEMGIh5wbhV91nISN6MLRsbY.1&from=addon.

Meeting ID: 853 7687 5347.

Passcode: 12325.

• To join the Zoom meeting with one tap from your mobile phone, please dial:

+14086380968,,85376875347# US (San Jose)

+16694449171,,85376875347# US

• To join the Zoom meeting by telephone, please dial one of the following phone numbers:

• +1 408 638 0968 US (San Jose)

• +1 669 444 9171 US

• +1 669 900 6833 US (San Jose)

• +1 253 215 8782 US (Tacoma)

• +1 346 248 7799 US (Houston)

• +1 719 359 4580 US

• +1 253 205 0468 US

• +1 507 473 4847 US

• +1 564 217 2000 US

• +1 646 876 9923 US (New York)

• +1 646 931 3860 US

• +1 689 278 1000 US

• +1 301 715 8592 US (Washington DC)

• +1 305 224 1968 US

• +1 309 205 3325 US

• +1 312 626 6799 US (Chicago)

• +1 360 209 5623 US

• +1 386 347 5053 US

Meeting ID: 853 7687 5347.

Once connected to Zoom, please immediately mute your computer or telephone. Members of the public are asked to keep their computers or telephones muted to eliminate background noise. To avoid disrupting the meetings, please refrain from placing the call on hold if doing so will trigger recorded music or other sound.

From time to time, the Committee Chairs may solicit comments from the public. To participate in the meeting during public comment, use the `raise your hand' or `chat' functions in Zoom and wait to be recognized by the Chair before stating your questions and/or comments.

STATUS: Parts of this meeting will be open to the public. The rest of the meeting will be closed to the public.

MATTERS TO BE CONSIDERED:

Meeting Schedule

Tuesday, January 21, 2025

Start Time: 2:00 p.m. ET.

Operations and Regulations Committee.

PORTIONS OPEN TO THE PUBLIC: Matters to be discussed in open session include approval of the Committee's agenda; approval of the minutes of the Committee's October 7, 2024, meeting; the Committee's self-evaluation for 2024 and goals for 2025; Management's report on implementation of LSC's 2021-2025 strategic plan; and LSC's engagement with the Client Leaders Council around LSC's rules governing client grievance procedures and prohibition of discrimination on the basis of disability.

Tuesday, January 21, 2025

Start Time: 3:00 p.m. ET.

Governance and Performance Review Committee.

PORTIONS OPEN TO THE PUBLIC: Matters to be discussed in open session include approval of the Committee's agenda; approval of the minutes of the Committee's October 8, 2024, meeting; Management's report on the 2024 annual Board and committee self-evaluation process; the Committee's self-evaluation for 2024 and goals for 2025; proposed Board handbook; activities of the Office of Access to Justice, Department of Justice, and the White House Legal Aid Interagency Roundtable; Presidential transition and legislative outreach plans; LSC President's self-evaluation; and the 2024 activities of the Office of Inspector General.

Thursday, January 23, 2025

Start Time: 3:00 p.m. ET.

Institutional Advancement Committee and Communications Subcommittee.

PORTIONS OPEN TO THE PUBLIC: Matters to be discussed in open session include approval of the Committee's agenda; approval of the minutes of the Subcommittee's and Committee's October 7, 2024, and October 15, 2024 meetings, respectively; the Subcommittee's and Committee's self-evaluations for 2024 and goals for 2025; activities of the Leaders and Emerging Leaders Councils; development activities; the Civil Court Data Initiative; Veterans Task Force implementation activities; communications and social media update; and a preview of the dynamic strategic communication plan for 2025.

PORTIONS CLOSED TO THE PUBLIC: Matters to be discussed in closed session include approval of the minutes of the Committee's October 15, 2024, meeting; a confidential development report; and consideration of and action on nominations to the Leaders and Emerging Leaders Councils.

CONTACT PERSON FOR MORE INFORMATION: Cheryl DuHart, Administrative Coordinator, at (202) 295-1621. Questions may also be sent by electronic mail to duhartc@lsc.gov.

Non-Confidential Meeting Materials: Non-confidential meeting materials will be made available in electronic format at least 24 hours in advance of the meeting on the LSC website, at https://www.lsc.gov/about-lsc/board-meeting-materials.

(Authority: 5 U.S.C. 552b).

Dated: January 10, 2025.
Stefanie Davis,
Deputy General Counsel, Legal Services Corporation.

[FR Doc. 2025-00944 Filed 1-13-25; 4:15 pm]

BILLING CODE 7050-01-P